ENVIRONMENTAL PROTECTION AGENCY

[OPP-00663; FRL-6592-3]

Certification of Pesticide Applicators; Renewal of Pesticide Information Collection Activities and Request for Comments

AGENCY: Environmental Protection Agency (EPA).

ACTION: Notice.

SUMMARY: In compliance with the Paperwork Reduction Act (PRA) (44 U.S.C. 3501 et seq.), this notice announces that EPA is seeking public comment on the following Information Collection Request (ICR): “Certification of Pesticide Applicators (EPA ICR No. 0155.07, OMB No. 2070-0029).” This is a request to renew an existing ICR that is currently approved and due to expire September 30, 2000. The ICR describes the nature of the information collection activity and its expected burden and costs. Before submitting this ICR to the Office of Management and Budget (OMB) for review and approval under the PRA, EPA is soliciting comments on specific aspects of the collection.

DATES: Written comments, identified by the docket control number OPP-00663, must be received on or before August 28, 2000.

ADDRESSES: Comments may be submitted by mail, electronically, or in person. Please follow the detailed instructions for each method as provided in Unit III. of the “SUPPLEMENTARY INFORMATION.” To ensure proper receipt by EPA, it is imperative that you identify docket control number OPP-00663 in the subject line on the first page of your response.

FOR FURTHER INFORMATION CONTACT: By mail: Nancy Vogel, Field and External Affairs Division (7506C), Office of Pesticide Programs, Environmental Protection Agency, 1200 Pennsylvania Ave., NW., Washington, DC 20460; telephone number: (703) 305-6475; fax number: (703) 305-5884; e-mail address: vogel.nancy@epa.gov.

SUPPLEMENTARY INFORMATION:

I. Does this Action Apply to Me?

You may be potentially affected by this action if you run an EPA approved certified pesticide applicator program for restricted use pesticides or are a certified pesticide applicator using restricted use pesticides that must comply with requirements of section 11 of the Federal Insecticide, Fungicide, and Rodenticide Act (FIFRA) and 40 CFR part 171. Potentially affected categories and entities may include, but are not limited to:

Category | NAICS code | SIC codes | Examples of potentially affected entities
Farms—agriculture production crops | 0191 | 010 | Pesticide applicator
Farms—agriculture production animals | 0291 | 020 | Pesticide applicator
Commercial exterminating services | 561710 | 734 | Pesticide applicator, pesticide dealers
Administration of environmental quality programs | 924110 | 951 | States, Federal Agencies, Indian Tribes
Administration of general economic programs |  | 964 | States, Federal Agencies, Indian Tribes
Retail nurseries, lawn, and garden supply stores | 111421, 444220 | 526 | Pesticide dealers, pesticide applicator
Miscellaneous nondurable goods (dealers) | 4229 | 519 | Pesticide dealers

This table is not intended to be exhaustive, but rather provides a guide for readers regarding entities likely to be affected by this action. Other types of entities not listed in this table could also be affected. The North American Industrial Classification System (NAICS) codes and the Standard Industrial Classification (SIC) codes are provided to assist you and others in determining whether or not this action might apply to certain entities. If you have questions regarding the applicability of this action to a particular entity, consult the person listed under “FOR FURTHER INFORMATION CONTACT.”

II. How Can I Get Additional Information, Including Copies of this Document and Other Related Documents?

A. Electronically

You may obtain electronic copies of this document, and certain other related documents that might be available electronically, from the EPA Internet Home Page at http://www.epa.gov/. On the Home Page select “Laws and Regulations” and then look up the entry for this document under the “Federal Register—Environmental Documents.” You can also go directly to the Federal Register listings at http://www.epa.gov/fedrgstr/.

B. Fax-on-Demand

Using a faxphone call (202) 401-0527 and select item 6081 for a copy of the ICR.

C. In Person

The Agency has established an official record for this action under docket control number OPP-00663. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. How Can I Respond to this Action?

A. How and to Whom Do I Submit the Comments?

You may submit comments through the mail, in person, or electronically. To ensure proper receipt by EPA, it is imperative that you identify docket control number OPP-00663 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments and/or data electronically by e-mail to: “opp-docket@epa.gov,” or you can submit a computer disk as described in Units III.A.1. and 2. Do not submit any information electronically that you consider to be CBI. Avoid the use of special characters and any form of encryption. Electronic submissions will be accepted in WordPerfect 6.1/8.0 or ASCII file format. All comments in electronic form must be identified by docket control number OPP-00663. Electronic comments may also be filed online at many Federal Depository Libraries.

B. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under “FOR FURTHER INFORMATION CONTACT.”

C. What Should I Consider when I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline in this notice.

8. To ensure proper receipt by EPA, be sure to identify the docket control number and administrative record number assigned to this action in the subject line on the first page of your response. You may also provide the name, date, and Federal Register citation.

D. What Information is EPA Particularly Interested in?

Pursuant to section 3506(c)(2)(A) of the Paperwork Reduction Act (PRA), EPA specifically solicits comments and information to enable it to:

1. Evaluate whether the proposed collections of information are necessary for the proper performance of the functions of the Agency, including whether the information will have practical utility.

2. Evaluate the accuracy of the Agency's estimates of the burdens of the proposed collections of information.

3. Enhance the quality, utility, and clarity of the information to be collected.

4. Minimize the burden of the collections of information on those who are to respond, including through the use of appropriate automated or electronic collection technologies or other forms of information technology, e.g., permitting electronic submission of responses.

EPA's Office of Pesticide Programs is specifically looking for comments related to business activities of the commercial pesticide applicators and firms sector. Specifically, EPA is looking information related to “usual and customary” business practices. To determine if the Agency has correctly calculated the respondent burden estimated for this business sector, the Agency would like information which identifies whether or not business would collect the following information regardless of the Agency's reporting requirements contained in 40 CFR 171.11(c)(7)(i)(A)-(H). This information includes:

1. Name and address of the person for whom the pesticide was applied.

2. Location of the pesticide application.

3. Target pest(s).

4. Specific crop or commodity, as appropriate, and site, to which the pesticide was applied.

5. Year, month, day, and time of application.

6. Trade name and EPA registration number of the pesticide applied.

7. Amount of the pesticide applied and percentage if active ingredient per unit of pesticide used.

8. Type and amount of the pesticide disposed of, method of disposal, date(s) of disposal, and location of the disposal site.

Commenters should identify whether or not they are a commercial pesticide applicator or firm and identify by number, (e.g., 1, 2, 3, 4, 5, 6, 7, or 8) those activities which the commenter considers to be usual and customary business practices.

IV. What Information Collection Activity or ICR Does this Action Apply to?

EPA is seeking comments on the following ICR:

Title: Certification of Pesticide Applicators.

ICR numbers: EPA ICR No. 0155.07, OMB No. 2070-0029.

ICR status: This is a renewal of an existing ICR that is currently approved by OMB and is due to expire September 30, 2000. An Agency may not conduct or sponsor, and a person is not required to respond to a collection of information that is subject to the approval under the PRA, unless it displays a currently valid OMB control number. The OMB control numbers for EPA's information collections appear on the collection instruments or instructions, in the Federal Register notices for related rulemakings and ICR notices, and, if the collection is contained in a regulation, in a table of OMB approval numbers in 40 CFR part 9.

Abstract: FIFRA allows EPA to classify a pesticide as “restricted use” if the pesticide meets certain toxicity or risk criteria. Restricted use pesticides, because of their potential to harm persons or the environment, may be applied only by a certified applicator or someone under the direct supervision of a certified applicator. In order to become a certified applicator, a person must meet certain standards of competency. Once approved by EPA, participating States can implement a certified applicator program. In non-participating States, EPA administers certification programs.

V. What are EPA's Burden and Cost Estimates for this ICR?

Under the PRA, “burden” means the total time, effort, or financial resources expended by persons to generate, maintain, retain, or disclose or provide information to or for a Federal Agency. For this collection it includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR provides a detailed explanation of this estimate, which is only briefly summarized in this notice. The annual public burden is estimated to be 1,285,865.16 hours. The following is a summary of the estimates taken from the ICR:

Respondents/affected entities: 57 States, Federal Agencies, and Indian Tribes; 266 pesticide dealers, 48 applicators in Colorado and 412,922 commercial pesticide applicators and firms.

Estimated total number of potential respondents: 413,293.

Frequency of response: Once annually.

Estimated total/average number of responses for each respondent: One.

Estimated total annual burden hours: 1,285,865.16 hours.

Estimated total annual burden costs: $20,118,111.96.

VI. Are There Changes in the Estimates from the Last Approval?

The annual burden hours related to the activities of this ICR have increased from 997,222 hours to 1,285,865.16 hours. The significant increase is attributed to the increase in the number of commercial applicators and firm respondents, an increase of 82,922 respondents. There was no change in burden per response.

VII. What is the Next Step in the Process for this ICR?

EPA will consider the comments received and amend the ICR as appropriate. The final ICR package will then be submitted to OMB for review and approval pursuant to 5 CFR 1320.12. EPA will issue another Federal Register notice pursuant to 5 CFR 1320.5(a)(1)(iv) to announce the submission of the ICR to OMB and the opportunity to submit additional comments to OMB. If you have any questions about this ICR or the approval process, please contact the person listed under “FOR FURTHER INFORMATION CONTACT.”

List of Subjects

Environmental protection, Reporting and recordkeeping requirements.

Dated: June 20, 2000.
Susan H. Wayland,
Acting Assistant Administrator for Prevention, Pesticides and Toxic Substances.

[FR Doc. 00-16220 Filed 6-27-00; 8:45 am]

BILLING CODE 6560-50-F